DEPARTMENT OF THE INTERIOR

National Park Service

Notice of Intent To Prepare a Shoreline Restoration and Management Plan/Environmental Impact Statement (EIS) for Indiana Dunes National Lakeshore, Indiana

SUMMARY: Pursuant to Section 102(2)(C) of the National Environmental Policy Act of 1969 (42 U.S.C. 4332(2)(C)), the National Park Service (NPS) is announcing its intent to prepare an environmental impact statement (EIS) for a Shoreline Restoration and Management Plan (SRMP) for Indiana Dunes National Lakeshore (Park), Indiana. The EIS will be approved by the Regional Director, Midwest Region.

The SRMP will prescribe the resource conditions and restoration activities that are to be achieved and maintained for the shoreline over the next 15 to 20 years. The SRMP will outline what must be achieved based on review of the Park's purpose, significance, special mandates, and the body of laws and policies that direct Park administration. Based on determinations of restoration endpoints necessary to achieve the NPS mission in context of the southern Lake Michigan Shoreline, the SRMP will outline the kinds of resource management and restoration activities that would be appropriate in the future. A range of reasonable management alternatives will be developed and the quantitative and science-based impacts will be assessed through this planning process and will include, at a minimum, no-action and the preferred alternative.

Major issues to be addressed in the SRMP include: Restoration or replication of natural shoreline sand movement; foredune/dune restoration and management; limiting or removing terrestrial and aquatic invasive species threats to the lakeshore; and improved water quality.

DATES: Any comments on the scope of issues to be addressed in the EIS can be received at any time after the publication of this notice in the FR. Public meetings regarding the EIS will be held during the scoping period. Specific dates, times, and locations will be made available in the local media; on the Park Web site (http://www.nps.gov/indu); on the NPS Planning, Environment and Public Comment (PEPC) Web site (http://parkplanning.nps.gov/indu); or by contacting the Superintendent at the address and telephone number below.

ADDRESSES: Information on the planning process will be available from the Superintendent, Indiana Dunes National Lakeshore 1100 N. Mineral Springs Road, Porter, Indiana 46304, telephone 219-926-7561.

SUPPLEMENTARY INFORMATION: If you wish to comment on any issues associated with the EIS, you may submit your comments by any one of several methods. You may mail comments to the Park, or deliver them directly to the Park, at the address above. Finally, you may provide comments electronically by entering them into the PEPC Web site at the address above.

Before including your address, telephone number, email address, or other personal identifying information in your comments, you should be aware that your entire comment (including your personal identifying information) may be made publicly available at any time. While you can ask us in your comments to withhold your personal identifying information from public review, we cannot guarantee that we will be able to do so.

Dated: June 2, 2010.
Ernest Quintana,
Regional Director, Midwest Region.

[FR Doc. 2010-17462 Filed 7-16-10; 8:45 am]

BILLING CODE 4310-FH-P